DEPARTMENT OF AGRICULTURE

Forest Service

Notice of Proposed New Fee Sites; Federal Lands Recreation Enhancement Act (Title VIII, Public Law 108-447)

AGENCY: Boise National Forest, USDA Forest Service.

ACTION: Notice of proposed new fee sites.

SUMMARY: The Boise National Forest is planning to charge fees at 22 recreation sites. Fees are assessed based on the level of amenities and services provided, cost of operation and maintenance, market assessment, and public comment. The fees listed are currently proposed and will be determined upon further analysis and public comment. Funds from fees would be used for the continued operation and maintenance of these recreation sites.

Swanholm and Rice Peak Lookouts, along with cabins at the Landmark Ranger Station and Johnson Creek Guard Station will be available for overnight rental. A fee study, financial analysis, and public involvement efforts were completed. As a result, cabin rental fees would range between $30 and $50 per night. Lookout, ranger, and guard station rentals offer a unique experience and are a widely popular offering on National Forests. The Landmark Ranger Station is eligible for listing on the National Register of Historic Places and is being restored to its original purpose as a working Forest Service administrative site, and to adapt the compound for public use and enjoyment. Fees would continue to help protect and maintain all these administrative structures and their historic integrity. The cabin rentals would be available once a final decision is made and they are listed with the National Recreation Reservation Service which would be in May of 2008 at the earliest.

New $5 day use fees are also proposed for the Arrowrock and Campbell Creek boating access sites and the Granite Creek picnic site. These fees will help address the deferred maintenance needs, such as substandard boat docks at both of the boating sites as well as general operation and maintenance needs at all three sites. The Granite Creek picnic site also serves as a trailhead for an important interpretive trail in the summer and groomed snowmobile trail access in the winter. Amenities include covered picnic shelters, a toilet, and interpretive exhibits.

Fees are proposed at 15 campgrounds including Badger Creek, Castle Creek, Cottonwood, Evans Creek, Little Roaring River Lake, Troutdale, Bald Mountain, Neinmeyer, Powerplant, Queens River, Riverside, Golden Gate, Ice Hole, Penny Springs, and Yellow Pine campgrounds. Many of these sites have been improved with new toilets and picnic tables over the last 8 to 10 years and additional income is needed for their continued operation and maintenance. A fee study, financial analysis, and public involvement efforts were completed in the spring and summer of 2007 in an effort to determine campground fees across the Boise National Forest, including both existing fee campgrounds as well as those proposed for new fees. Fees at campgrounds are proposed to be $15 at sites that provide both drinking and water and trash removal and $12 at sites that do not provide both of these amenities. A $5 day use fee is also proposed at some sites.

DATES: New fees would begin in May 2007 and contingent upon completion of certain improvements at a few sites.

ADDRESSES: Frank Guzman, Deputy Forest Supervisor, Boise National Forest, 1249 South Vinnell Way, Suite 200, Boise, Idaho 83709.

FOR FURTHER INFORMATION CONTACT: Jim Keller, Recreation Program Manager, 208-373-4142. Information about proposed fee changes and other proposed management actions developed in the Recreation Facility Analysis process can also be found on the Boise National Forest Web site: http://www.fs.fed.us/r4/boise/.

SUPPLEMENTARY INFORMATION: The Federal Recreation Lands Enhancement Act (Title VII, Pub. L. 108-447) directed the Secretary of Agriculture to publish a 6-month advance notice in the Federal Register whenever new recreation fee areas are established.

Once public involvement is complete, these new fees will be reviewed by a Recreation Resource Advisory Committee prior to a final decision and implementation.

People wanting to rent the Swanholm and Rice Peak Lookouts, the Landmark Ranger Station or the Johnson Creek Guard Station would need to do so through the National Recreation Reservation Service, at http://www.reserveusa.com or by calling 1-877-444-6777 when it becomes available.

Dated: October 23, 2007.
Frank V. Guzman,
Deputy Forest Supervisor.

[FR Doc. 07-5337 Filed 10-26-07; 8:45 am]

BILLING CODE 3410-11-M